DEPARTMENT OF HOMELAND SECURITY

Federal Emergency Management Agency

[Docket ID FEMA-2024-0002]

Changes in Flood Hazard Determinations

AGENCY: Federal Emergency Management Agency, Department of Homeland Security.

ACTION: Notice.

SUMMARY: New or modified Base (1-percent annual chance) Flood Elevations (BFEs), base flood depths, Special Flood Hazard Area (SFHA) boundaries or zone designations, and/or regulatory floodways (hereinafter referred to as flood hazard determinations) as shown on the indicated Letter of Map Revision (LOMR) for each of the communities listed in the table below are finalized. Each LOMR revises the Flood Insurance Rate Maps (FIRMs), and in some cases the Flood Insurance Study (FIS) reports, currently in effect for the listed communities.

DATES: Each LOMR was finalized as in the table below.

ADDRESSES: Each LOMR is available for inspection at both the respective Community Map Repository address listed in the table below and online through the FEMA Map Service Center at https://msc.fema.gov.

FOR FURTHER INFORMATION CONTACT: Rick Sacbibit, Chief, Engineering Services Branch, Federal Insurance and Mitigation Administration, FEMA, 400 C Street SW, Washington, DC 20472, (202) 646-7659, or (email) patrick.sacbibit@fema.dhs.gov; or visit the FEMA Mapping and Insurance eXchange (FMIX) online at https://www.floodmaps.fema.gov/fhm/fmx_main.html.

SUPPLEMENTARY INFORMATION: The Federal Emergency Management Agency (FEMA) makes the final flood hazard determinations as shown in the LOMRs for each community listed in the table below. Notice of these modified flood hazard determinations has been published in newspapers of local circulation and 90 days have elapsed since that publication. The Deputy Associate Administrator for Insurance and Mitigation has resolved any appeals resulting from this notification.

The modified flood hazard determinations are made pursuant to section 206 of the Flood Disaster Protection Act of 1973, 42 U.S.C. 4105, and are in accordance with the National Flood Insurance Act of 1968, 42 U.S.C. 4001 et seq., and with 44 CFR part 65. The currently effective community number is shown and must be used for all new policies and renewals.

The new or modified flood hazard information is the basis for the floodplain management measures that the community is required either to adopt or to show evidence of being already in effect in order to remain qualified for participation in the National Flood Insurance Program (NFIP).

This new or modified flood hazard information, together with the floodplain management criteria required by 44 CFR 60.3, are the minimum that are required. They should not be construed to mean that the community must change any existing ordinances that are more stringent in their floodplain management requirements. The community may at any time enact stricter requirements of its own or pursuant to policies established by other Federal, State, or regional entities.

This new or modified flood hazard determinations are used to meet the floodplain management requirements of the NFIP. The changes in flood hazard determinations are in accordance with 44 CFR 65.4.

Interested lessees and owners of real property are encouraged to review the final flood hazard information available at the address cited below for each community or online through the FEMA Map Service Center at https://msc.fema.gov.

(Catalog of Federal Domestic Assistance No. 97.022, “Flood Insurance.”)

Nicholas A. Shufro,
Assistant Administrator (Acting) for Risk Management, Federal Emergency Management Agency, Department of Homeland Security.

State and county | Location and case No. | Chief executive officer of community | Community map repository | Date of modification | Community No.
Alabama: Madison (FEMA Docket No.: B-2445). | City of Madison (23-04-3026P). | The Honorable Paul Finley, Mayor, City of Madison, 100 Hughes Road, Madison, AL 35758. | City Hall, 100 Hughes Road, Madison, AL 35758. | Sept. 26, 2024 | 010308
Colorado:
Arapahoe (FEMA Docket No.: B-2437). | City of Centennial (23-08-0194P). | The Honorable Stephanie Piko, Mayor, City of Centennial, 13133 East Arapahoe Road, Centennial, CO 80112. | Southeast Metro Stormwater Authority, 7437 South Fairplay Street, Centennial, CO 80112. | Sep. 6, 2024 | 080315
El Paso (FEMA Docket No.: B-2437). | City of Manitou Springs (23-08-0292P). | The Honorable John Graham, Mayor, City of Manitou Springs, 606 Manitou Avenue, Manitou Springs, CO 80829. | City Hall, 606 Manitou Avenue, Manitou Springs, CO 80829. | Aug. 28, 2024 | 080063
Connecticut: New Haven (FEMA Docket No.: B-2437). | City of Meriden (24-01-0126P). | The Honorable Kevin Scarpati, Mayor, City of Meriden, 142 East Main Street, Meriden, CT 06450. | Public Works Department, 142 East Main Street, Meriden, CT 06450. | Aug. 28, 2024 | 090081
Florida:
Manatee (FEMA Docket No.: B-2445). | Unincorporated areas of Manatee County (24-04-0371P). | Charlie Bishop, Manatee County Administrator, 1112 Manatee Avenue West, Bradenton, FL 34205. | Manatee County Administration Building, 1112 Manatee Avenue West, Bradenton, FL 34205. | Sep. 9, 2024 | 120153
Orange (FEMA Docket No.: B-2437). | City of Orlando (24-04-0053P). | The Honorable Buddy Dyer, Mayor, City of Orlando, 400 South Orange Avenue, Orlando, FL 32801. | Public Works Department, Engineering Division, 400 South Orange Avenue, 8th Floor, Orlando, FL 32801. | Sep. 9, 2024 | 120186
Orange (FEMA Docket No.: B-2437). | Unincorporated areas of Orange County (23-04-5522P). | The Honorable Jerry L. Demings, Mayor, Orange County, 201 South Rosalind Avenue, 5th Floor, Orlando, FL 32801. | Orange County Stormwater Management Division, 4200 South John Young Parkway, Orlando, FL 32839. | Aug. 30, 2024 | 120179
Pasco (FEMA Docket No.: B-2439). | Unincorporated areas of Pasco County (23-04-1143P). | Jack Mariano, Chair, Pasco County Board of Commissioners, 37918 Meridian Avenue, Dade City, FL 33525. | Pasco County Building Construction Services Department, 8731 Citizens Drive, Suite 230, New Port Richey, FL 34654. | Sep. 5, 2024 | 120230
Walton (FEMA Docket No.: B-2437). | City of Freeport (23-04-5559P). | The Honorable Russ Barley, Mayor, City of Freeport, 112 Highway 20 West, Freeport, FL 32439. | City Hall, 112 Highway 20 West, Freeport, FL 32439. | Sep. 5, 2024 | 120319
North Carolina:
Durham (FEMA Docket No.: B-2445). | Unincorporated areas of Durham County (23-04-5200P). | Nida Allam, Chair, Durham County Board of Commissioners, 200 East Main Street, Durham, NC 27701. | Durham City-County Planning Department, 101 City Hall Plaza, Durham, NC 27701. | Sept. 3, 2024 | 370085
Durham (FEMA Docket No.: B-2437). | Unincorporated areas of Durham County (23-04-6337P). | Nida Allam, Chair, Durham County Board of Commissioners, 200 East Main Street, Durham, NC 27701. | Durham City-County Planning Department, 101 City Hall Plaza, Durham, NC 27701. | Sept. 5, 2024 | 370085
Pennsylvania: Philadelphia (FEMA Docket No.: B-2437). | City of Philadelphia (24-03-0065P). | The Honorable Cherelle L. Parker, Mayor, City of Philadelphia, 1 South Penn Square, Suite 215, Philadelphia, PA 19102. | Department of Licenses and Inspections, 1401 JFK Boulevard, Philadelphia, PA 19102. | Sep. 3, 2024 | 420757
Tennessee: Rutherford (FEMA Docket No.: B-2439). | City of Murfreesboro (24-04-2722P). | The Honorable Shane McFarland, Mayor, City of Murfreesboro, 111 West Vine Street, Murfreesboro, TN 37130. | City Hall, 111 West Vine Street, Murfreesboro, TN 37130. | Sep. 4, 2024 | 470168
Texas:
Bexar (FEMA Docket No.: B-2439). | City of San Antonio (23-06-1913P). | The Honorable Ron Nirenberg, Mayor, City of San Antonio, P.O. Box 839966, San Antonio, TX 78283. | Transportation and Capital Improvements Department, Storm Water Division, 1901 South Alamo Street, 2nd Floor, San Antonio, TX 78214. | Sep. 9, 2024 | 480045
Bexar (FEMA Docket No.: B-2439). | City of San Antonio (23-06-2731P). | The Honorable Ron Nirenberg, Mayor, City of San Antonio, P.O. Box 839966, San Antonio, TX 78283. | Transportation and Capital Improvements Department, Storm Water Division, 1901 South Alamo Street, 2nd Floor, San Antonio, TX 78214. | Sep. 9, 2024 | 480045
Collin and Denton (FEMA Docket No.: B-2437). | City of Celina (23-06-2493P). | The Honorable Ryan Tubbs, Mayor, City of Celina, 142 North Ohio Street, Celina, TX 75009. | City Hall, 142 North Ohio Street, Celina, TX 75009. | Aug. 27, 2024 | 480133
Collin (FEMA Docket No.: B-2445). | City of Celina (23-06-2687P). | The Honorable Ryan Tubbs, Mayor, City of Celina, 142 North Ohio Street, Celina, TX 75009. | City Hall, 142 North Ohio Street, Celina, TX 75009. | Sep. 3, 2024 | 480133
Collin (FEMA Docket No.: B-2437). | Unincorporated areas of Collin County (23-06-2493P). | The Honorable Chris Hill, Collin County Judge, 2300 Bloomdale Road, McKinney, TX 75071. | Collin County Juvenile Justice Alternative Education Program Building, 4690 Community Avenue, Suite 200, McKinney, TX 75071. | Aug. 27, 2024 | 480130
Collin (FEMA Docket No.: B-2445). | Unincorporated areas of Collin County (23-06-2687P). | The Honorable Chris Hill, Collin County Judge, 2300 Bloomdale Road, McKinney, TX 75071. | Collin County Juvenile Justice Alternative Education Program Building, 4690 Community Avenue, McKinney, TX 75071. | Sep. 3, 2024 | 480130
Denton (FEMA Docket No.: B-2439). | City of Denton (23-06-0359P). | Sara Hensley, City of Denton Manager, 215 East McKinney Street, Denton, TX 76201. | Development Services Department, 401 North Elm Street, Denton, TX 76201. | Sep. 9, 2024 | 480194
Denton (FEMA Docket No.: B-2439). | Unincorporated areas of Denton County (23-06-0359P). | The Honorable Andy Eads, Denton County Judge, 1 Courthouse Drive, Suite 3100, Denton, TX 76208. | Denton County Development Services Department, 3900 Morse Street, Denton, TX 76208. | Sep. 9, 2024 | 480774
Denton (FEMA Docket No.: B-2437). | Unincorporated areas of Denton County (23-06-2493P). | The Honorable Andy Eads, Denton County Judge, 1 Courthouse Drive, Suite 3100, Denton, TX 76208. | Denton County Development Services Department, 3900 Morse Street, Denton, TX 76208. | Aug. 27, 2024 | 480774
Johnson (FEMA Docket No.: B-2439). | City of Cleburne (23-06-0045P). | The Honorable Scott Cain, Mayor, City of Cleburne, P.O. Box 677, Cleburne, TX 76031. | City Hall, 10 North Robinson Street, Cleburne, TX 76033. | Aug. 30, 2024 | 485462
Smith (FEMA Docket No.: B-2437). | City of Tyler (23-06-2411P). | The Honorable Don Warren, Mayor, City of Tyler, P.O. Box 2039, Tyler, TX 75710. | Development Center, 423 West Ferguson Street, Tyler, TX 75702. | Sep. 3, 2024 | 480571
Tarrant (FEMA Docket No.: B-2439). | City of Crowley (23-06-2689P). | The Honorable Billy P. Davis, Mayor, City of Crowley, 201 East Main Street, Crowley, TX 76036. | Planning and Development Department, 201 East Main Street, Crowley, TX 76036. | Sep. 9, 2024 | 480591

[FR Doc. 2024-22065 Filed 9-25-24; 8:45 am]

BILLING CODE 9110-12-P